DEPARTMENT OF THE INTERIOR

Bureau of Indian Affairs

Notice of Intent To Prepare an Environmental Impact Statement for the Proposed Wanapa Energy Center, Umatilla County, Oregon

AGENCY: Bureau of Indian Affairs, Interior.

ACTION: Notice.

SUMMARY: This notice advises the public that the Bureau of Indian Affairs (BIA), with the cooperation of the Confederated Tribes of the Umatilla Indian Reservation (CTUIR), intends to gather the information necessary for preparing an Environmental Impact Statement (EIS) for the proposed lease to Wanapa Energy Center of up to 195 acres of land held in trust by the United States for the benefit of the CTUIR in Umatilla County, Oregon. The Williams Energy Marketing and Trading Company, CTUIR, the Eugene Water and Electric Board, the City of Hermiston and the Port of Umatilla intend to jointly build and operate the Wanapa Energy Center, an approximately 1,300 megawatt electric generation plant, on the property. The purpose of the proposed project is to conjointly help provide for the economic development of the CTUIR and for the power needs of the Pacific northwest. Details on the proposed project and its location are provided in the SUPPLEMENTARY INFORMATION section. This notice also announces public scoping meetings to identify potential issues for inclusion in the EIS, distinguish those to be analyzed in depth, and eliminate from consideration those that are not significant.

DATES: Written comments on the scope and implementation of this proposal must arrive by November 21, 2001. The public scoping meetings will be held on November 5, 2001, and November 6, 2001, from 5 to 8 p.m.

ADDRESSES: You may mail or hand carry written comments to Philip Sanchez, Superintendent, Bureau of Indian Affairs, Umatilla Agency, P.O. Box 520, Pendleton, Oregon 97801.

The November 5, 2001, public hearing will be in Pendleton, Oregon. The November 6, 2001, public hearing will be in Hermiston, Oregon. Exact locations of the hearings will be determined at a later date and can be obtained from the FURTHER INFORMATION CONTACT listed below.

If you would like a map displaying the proposed project location, please contact Jerry L. Lauer, Natural Resource Officer, at the above Umatilla Agency address, telephone (541) 278-3790, or e-mail JerryLauer@bia.gov.

FOR FURTHER INFORMATION CONTACT: Jerry L. Lauer, (541) 278-3790.

SUPPLEMENTARY INFORMATION: The EIS will assess the environmental consequences of BIA approval of a proposed lease between Wanapa Energy Center, the lessee, and the CTUIR, the lessor, of part of Lots 1, 2, 3, and 4, the South Half of the Southwest Quarter, Section 7, Township 5 North, Range 29 East, Willamette Meridian, Umatilla County, Oregon. The property lies in western Umatilla County near McNary Dam on the Columbia River. The parties developing the Wanapa Energy Center plan to construct and operate the facility on this property.

The proposed project has several components. They include an electrical connection at or near the Bonneville Power Administration's McNary Substation; a natural gas-fired, combined cycle, combustion turbine electric generation plant; a natural gas supply pipeline; a water supply pipeline; and a new electric power transmission line. All proposed facilities would be located within Umatilla County, Oregon.

The proposed Wanapa Energy Center would be a combustion turbine, combined cycle electric power plant with a nominal generating capacity of 1,300 megawatts. It would consist of four essentially identical combustion turbine generators, four heat recovery steam generators (HRSG) and two steam turbines. Expanding gasses from combustion would turn rotors within the turbines that are connected to electric generators. The hot gases exhausted from the combustion turbines would be used to raise steam in the HRSGs. Steam from the HRSGs would be expanded through steam turbines that drive their own electric generators. The combustion turbines would be fueled by natural gas from either the existing Williams pipeline or an existing PGT pipeline. The facility would interconnect in either case through a new, approximately ten mile gas supply lateral.

Water to generate steam and cool the steam process at the plant would be supplied from the Port of Umatilla Regional Water Supply. A recirculation cooling system employing mechanically induced draft, evaporative cooling towers would be used. Water would be added to the cooling system to compensate for evaporative losses and blowdown. Blowdown is water bled from the cooling system to limit the build-up of salts.

The proposed Wanapa Energy Center would deliver electric power to the regional power grid at BPA's McNary Substation, using a new high voltage transmission line crossing property owned by the Port of Umatilla.

Public Comment Solicitation

As an alternative to submitting written comments regarding the scope of the EIS to the location identified in the ADDRESSES section, interested persons may instead comment via the Internet to PhilipSanchez@bia.gov. Please submit Internet comments as an ASCII file, avoiding the use of special characters and any form of encryption. If you do not receive confirmation from the system that your Internet message was received, contact Philip Sanchez at (541) 278-3786.

Comments, including names and home addresses of respondents, will be available for public review at the BIA address shown in the ADDRESSES section, during regular business hours, 7:30 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: October 4, 2001.
Neal A. McCaleb,
Assistant Secretary, Indian Affairs.

[FR Doc. 01-26506 Filed 10-19-01; 8:45 am]

BILLING CODE 4310-02-P